DEPARTMENT OF JUSTICE

Office of Community Oriented Policing Services

Agency Information Collection Activities; Proposed Collection; Comments Requested

ACTION: 30-day notice of information collection under review; new collection; Tribal Resources Grant Program Application.

The Department of Justice (DOJ), (Office of Community Oriented Policing Services (COPS)) has submitted the following information collection request to the Office of Management and Budget (OMB) for review and approval in accordance with the Paperwork Reduction Act of 1995. The proposed information collection is published to obtain comments from the public and affected agencies. This proposed information collection was previously published in the Federal Register (Volume 66, Number 147, pages 39537) on July 31, 2001, allowing for a 60 day comment period.

The purpose of this notice is to allow for an additional 30 days for public comment until November 23, 2001. This process is conducted in accordance with 5 CFR 1320.10.

Written comments and/or suggestions regarding the items contained in this notice, especially the estimated public burden and associated response time, should be directed to The Office of Management and Budget, Office of Information and Regulatory Affairs, Attention Department of Justice Desk Officer, Washington, DC 20503. Additionally, comments may be submitted to OMB via facsimile to (202)-395-7285.

Written comments and suggestions from the public and affected agencies concerning the proposed collection of information are encouraged. Your comments should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of information collection: New collection.

(2) The title of the form/collection: Tribal Resources Grant Program Application.

(3) The agency form number, if any, and the applicable component of the Department sponsoring the collection: Form: None. Office of Community Oriented Policing Services, U.S. Department of Justice.

(4) Affected public who will be asked to required to respond, as well as a brief abstract: Primary: Federally Recognized Tribal Governments.

Other: None. The information collected will be used by the COPS Office to determine whether Federally recognized Tribal Governments are eligible for three year grants specifically targeted to meet the most serious needs of law enforcement in Indian communities. The grants are meant to enhance law enforcement infrastructures and community policing efforts in these communities.

(5) An estimate of the total number of respondents and the amount of time estimated for an average respondent to respond/reply: 200 respondents at 8 hours per response. The information will be collected annually from each respondent.

(6) An estimate of the total public burden (in hours) associated with the collection: There are 1800 annual burden hours associated with this information collection.

If additional information is required contact: Brenda E. Dyer, Department Deputy Clearance Officer, Information Management and Security Staff, Justice Management Division, United States Department of Justice, 601 D Street NW, Patrick Henry Building, Suite 1600, NW, Washington, DC 20530.

Dated: October 16, 2001.
Brenda E. Dyer,
Department Deputy Clearance Officer, Department of Justice.

[FR Doc. 01-26707 Filed 10-23-01; 8:45 am]

BILLING CODE 4410-AT-M